DEPARTMENT OF ENERGY

Federal Energy Regulatory Commission

[Docket No. CP14-523-000]

Equitrans, L.P.; Notice of Request Under Blanket Authorization

Take notice that on July 18, 2014, Equitrans, L.P. (Equitrans), pursuant to the blanket certificate authorization granted to Equitrans on October 20, 1998, in Docket No. CP96-532-000,¹ filed an application in accordance to sections 157.205, 157.208, and 157.210 of the Commission's Regulations under the Natural Gas Act (NGA) as amended, requesting authority to construct and operate its H-312 Pipeline Project (Project) in Harrison County, West Virginia. The proposed new facilities will increase the capacity on Equitrans' mainline system, thereby enabling Equitrans to accommodate additional volumes expected from a non-affiliated producer into Equitrans' existing H-509 pipeline, all as more fully set forth in the application which is on file with the Commission and open to public inspection.

¹ 85 FERC ¶ 61,089 (1998).

To alleviate the anticipated constraint on the existing H-509 pipeline, Equitrans proposes to construct the Project which includes approximately 49,055 feet (or 9.29 miles) of a 12-inch diameter natural gas pipeline, with a maximum allowable operating pressure (MAOP) of 1,200 pounds per square inches (psig), and appurtenant facilities. The Project starts at the existing Morrison Interconnect in Wilsonburg, West Virginia and runs north to the existing Lumberport Overpressure Protection Station and H-557 pipeline in Lumberport, West Virginia. The Project will include 9.29 miles of right-of-way (ROW) primarily adjacent to an existing ROW. The proposed facilities will enable Equitrans to provide additional capacity of 100,000 Dth per day of incremental natural gas volumes to be received onto the existing H-509 pipeline. Equitrans conducted a non-binding open season, from June 10, 2013 through July 10, 2013 and a reverse open season from April 17, 2014 to May 2, 2014. No capacity was turned back to Equitrans. The total estimated cost of the proposed project is $26,942,253.

Any questions concerning this application may be directed to Paul W. Diehl, Senior Counsel—Midstream, at EQT Corporation, 625 Liberty Avenue, Suite 1700, Pittsburgh, PA 15222, by phone at (412) 395-5540, or by email to PDiehl@eqt.com.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866)206-3676, or, for TTY, contact (202)502-8659. Comments, protests and interventions may be filed electronically via the Internet in lieu of paper. See, 18 CFR 385.2001(a)(1)(iii) and the instructions on the Commission's Web site under the “e-Filing” link. The Commission strongly encourages intervenors to file electronically.

Pursuant to section 157.9 of the Commission's rules, 18 CFR 157.9, within 90 days of this Notice, the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Dated: July 28, 2014.
Kimberly D. Bose,
Secretary.

[FR Doc. 2014-18192 Filed 7-31-14; 8:45 am]

BILLING CODE 6717-01-P